DEPARTMENT OF DEFENSE

Office of the Secretary

Federal Advisory Committee; Military Leadership Diversity Commission (MLDC)

AGENCY: Office of the Under Secretary of Defense for Personnel and Readiness, (DoD).

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet on June 16 and 17, 2010, in Mc Lean, VA. The meeting is open to the public, but seating is limited.

DATES: The meeting will be held on June 16, 2010 (from 8 a.m. to 5:30 p.m.) and on June 17, 2010 (from 8 a.m. to 6:15 p.m.).

ADDRESSES: The meeting will be held at the Hilton McLean—Tysons Corner, 7920 Jones Branch Dr., McLean, VA 22102.

FOR FURTHER INFORMATION CONTACT: Master Chief Steven A. Hady, Designated Federal Officer, MLDC, at (703) 602-0838, 1851 South Bell Street, Suite 532, Arlington, VA. Email: steven.Hady@wso.whs.mil.

SUPPLEMENTARY INFORMATION:

Purpose of the Meeting

The purpose of the meeting is for the commissioners of the Military Leadership Diversity Commission to continue their efforts to address congressional concerns as outlined in the commission charter.

Agenda

June 16, 2010

8 a.m.-11:15 p.m.

DFO opens the meeting

Commission Chairman opening remarks

Admiral Gary Roughead, Chief of Naval Operations, addresses the MLDC Commission

Decision Brief for implementation and accountability

11:15 a.m.

DFO recesses the meeting

12:15 p.m.-5:30 p.m.

DFO opens the meeting

Decision brief on metrics

Decision brief on retention

General George Casey, Jr., Chief of Staff of the Army, addresses the MLDC

Public comments

Commission Chairman closing remarks

DFO adjourns the meeting

June 17, 2010

8 a.m.-11 a.m.

DFO opens the meeting

Commission Chairman opening remarks

Dr. Frank Dobbin, Professor of Sociology, Harvard University briefs the MLDC

Panel of representatives from private sector companies address the MLDC:

Mr. Steve Bucherati, Chief Diversity Officer, Coca Cola

Ms. Deborah Elam, Vice President and Chief Diversity Officer, General Electric

Mr. Frank McCloskey, Chief Diversity Officer, Georgia Power

11 a.m.

DFO recesses the meeting

12 p.m.-6:15 p.m.

DFO opens meeting

Panel of representatives from private sector companies address the MLDC:

Mr. Hayward Bell, Chief Diversity Officer, Raytheon

Ms. Geeth Chettiar, Vice President for Diversity and EO Programs, Lockheed Martin

Sandra Evers-Manly, Vice President for Corporate Social Responsibility, Northrop Grumman

Decision brief for diversity leadership and training

Deliberation of decision paper for outreach and recruiting

Public comments

Commission Chairman closing remarks

DFO adjourns the meeting

Public's Accessibility to the Meeting

Pursuant to 5 U.S.C. 552b and 41 CFR 102-3.140 through 102-3.165, and the availability of space, the meetings on June 16 and 17, 2010, will be open to the public.

Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database— https://www.fido.gov/facadatabase/public.asp.

Statements being submitted in response to the agenda mentioned in this notice must be received by the Designated Federal Officer at the address listed under FOR FURTHER INFORMATION CONTACT at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: May 21, 2010.
Mitchell S. Bryman,
Alternate OSD Federal Register Liaison Officer, Department of Defense.

[FR Doc. 2010-12686 Filed 5-26-10; 8:45 am]

BILLING CODE 5001-06-P